DEPARTMENT OF TRANSPORTATION

National Highway Traffic Safety Administration

[NHTSA Docket No. NHTSA-2013-0075]

Federal Interagency Committee on Emergency Medical Services; Meeting

AGENCY: National Highway Traffic Safety Administration (NHTSA), DOT.

ACTION: Meeting Notice—Federal Interagency Committee on Emergency Medical Services.

SUMMARY: NHTSA announces a meeting of the Federal Interagency Committee on Emergency Medical Services (FICEMS) to be held in the Washington, DC area. This notice announces the date, time and location of the meeting, which will be open to the public. Pre-registration is required to attend.

DATES: The meeting will be held on July 8, 2013, from 1:00 p.m. EDT to 4:00 p.m. EDT.

ADDRESSES: The meeting will be held at the Department of Health & Human Services (HHS) Headquarters Building at 200 Independence Avenue SW., Washington, DC 20201 in Suite 800 on the penthouse floor.

FOR FURTHER INFORMATION CONTACT: Drew Dawson, Director, Office of Emergency Medical Services, National Highway Traffic Safety Administration, 1200 New Jersey Avenue SE., NTI-140, Washington, DC 20590, Telephone number (202) 366-9966; Email Drew.Dawson@dot.gov.

Required Registration Information: This meeting will be open to the public; however, pre-registration is required to comply with security procedures. Members of the public wishing to attend must register online at http://events.signup4.com/FICEMSJuly2013 no later than July 3, 2013.

A picture I.D. must be provided to enter the HHS Building and it is suggested that visitors arrive 30 minutes early in order to facilitate entry. Please be aware that visitors to HHS are subject to search and must pass through a magnetometer. Weapons of any kind are strictly forbidden in the building unless authorized through the performance of the official duties of your employment (i.e. law enforcement officer). Staff from HHS will be in the lobby beginning at 12:30 p.m. EDT on the day of the meeting to escort members of the public to the meeting room.

SUPPLEMENTARY INFORMATION: Section 10202 of the Safe, Accountable, Flexible, Efficient Transportation Equity Act: A Legacy For Users (SAFETEA-LU), Public Law 109-59, provides that the FICEMS consist of several officials from Federal agencies as well as a State emergency medical services director appointed by the Secretary of Transportation.

Tentative Agenda: This meeting of the FICEMS will focus on addressing the requirements of SAFETEA-LU and the opportunities for collaboration among the key Federal agencies involved in emergency medical services. The tentative agenda includes:

• Approval of the FICEMS Annual Report to Congress

• Report from the Chair of the National EMS Advisory Council (NEMSAC) on recently adopted recommendations for FICEMS

• Presentation by the National Institutes of Health, Office of Emergency Care Research

• Presentation on the White House Forum on Military Credentialing and Licensure for Emergency Medical Services

• Presentation from the Biomedical Advanced Research and Development Authority (BARDA)

• Discussion of Response to Recommendations from the National Transportation Safety Board

○ Update on Helicopter Emergency Medical Services recommendations

○ Status of responses to Mexican Hat, Utah Motorcoach Crash recommendations

• Reports and updates from Technical Working Group committees

• A discussion on FICEMS strategic planning

• Reports, updates, and recommendations from FICEMS members

• A public comment period

There will not be a call-in number provided for this FICEMS meeting; however, minutes of the meeting will be available to the public online at www.EMS.gov. A final agenda and other meeting materials will be posted at www.EMS.gov prior to the meeting.

Dated: June 12, 2013.
Jeffrey P. Michael,
Associate Administrator, Research and Program Development.

[FR Doc. 2013-14301 Filed 6-14-13; 8:45 am]

BILLING CODE 4910-59-P